FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 20, 2005.

A. Federal Reserve Bank of Richmond (A. Linwood Gill, III, Vice President) 701 East Byrd Street, Richmond, Virginia 23261-4528

1. William B. Gossett, Beaufort, South Carolina, to acquire additional voting shares of Islands Bancorp, Beaufort, South Carolina, and thereby indirectly acquire Islands Community Bank, National Association, Beaufort, South Carolina.

B. Federal Reserve Bank of Chicago (Patrick Wilder, Managing Examiner) 230 South LaSalle Street, Chicago, Illinois 60690-1414

1. Jutta Hansen, DeWitt, Iowa, and Chris Hansen III, Grand Mound, Iowa, individually and as trustees of the Chris F. Hansen, Jr. Trust, DeWitt, Iowa; Pamela A. Swahn IRA, Granite Bay, California; Pamela A. Swahn, Granite Bay, California; Anne H. Fergus, Whitefish Bay, Wisconsin; and Melanie K. Boosalis, Long Grove, Iowa, to acquire voting shares of DeWitt Bancorp, Inc., DeWitt, Iowa, and thereby indirectly acquire DeWitt Bank and Trust Company, DeWitt, Iowa.

Board of Governors of the Federal Reserve System, April 1, 2005.

Robert deV. Frierson,
Deputy Secretary of the Board.

[FR Doc. 05-6860 Filed 4-6-05; 8:45 am]

BILLING CODE 6210-01-P